DEPARTMENT OF TRANSPORTATION

Maritime Administration

46 CFR Part 388

[Docket Number: MARAD-2005-21105]

RIN 2133-AB50

Application Fee Increase for Administrative Waivers of the Coastwise Trade Laws

AGENCY: Maritime Administration, Department of Transportation.

ACTION: Notice of proposed rulemaking.

SUMMARY: The Maritime Administration (MARAD) proposes to increase the application fee for administrative waivers of the coastwise trade laws from $300 to $500. The increased fee would align the application fee with the actual cost of processing and issuing each waiver.

DATES: Comments are due June 13, 2005.

ADDRESSES: You may submit comments [identified by DOT DMS Docket Number MARAD-2005-21105] by any of the following methods:

• Web Site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal holidays.

• Federal eRulemaking Portal: Go to http://www.regulations.gov. Follow the online instructions for submitting comments.

Instructions: All submissions must include the agency name and docket number for this rulemaking. Note that all comments received will be posted without change to http://dms.dot.gov including any personal information provided. Please see the Privacy Act heading under Regulatory Notices.

Docket: For access to the docket to read background documents or comments received, go to http://dms.dot.gov at any time or to Room PL-401 on the plaza level of the Nassif Building, 400 7th St., SW., Washington, DC, between 9 a.m. and 5 p.m., Monday through Friday, except Federal holidays.

FOR FURTHER INFORMATION CONTACT: Sharon Cassidy, Office of Ports and Domestic Shipping, Maritime Administration, MAR-830, 400 7th St., SW., Rm. 7201 Washington, DC 20590; telephone: (202) 366-5506.

SUPPLEMENTARY INFORMATION: Title V of the Independent Offices Appropriations Act of 1952 (“IOAA”; 31 U.S.C. 9701) authorizes Federal agencies to establish and collect user fees. The statute provides that each service or thing of value provided by an agency should be self-sustaining to the extent possible, and that each charge shall be fair and based on the costs to the Government, the value of the service or thing to the recipient, the policy or interest served, and other relevant factors. 31 U.S.C. 9701.

The primary guidance for implementation of the IOAA is Office of Management and Budget (OMB) Circular No. A-25 (“User Charges,” July 8, 1993). Circular A-25 directs agencies to assess user charges against identifiable recipients for special benefits derived from Federal activities beyond those received by the general public. Circular A-25, section 6. Circular A-25 further directs agencies, with limited exceptions, to recover the full cost of providing a Government service from the direct recipients of special benefits. Section 6(d) of Circular A-25 defines “full cost” as including “all direct and indirect costs to any part of the Federal Government of providing a good, resource, or service.”

Pursuant to these directives, MARAD is proposing to increase the application fee for administrative waivers of the coastwise trade laws under 46 CFR part 388 for eligible small vessels. Under 46 CFR part 388, owners of small passenger vessels may apply for waivers of the U.S.-build requirements of the Passenger Vessel Services Act and section 27 of the Merchant Marine Act, 1920, to allow the carriage of no more than 12 passengers for hire in the coastwise trade. Because waivers under part 388 represent special benefits to identifiable recipients (i.e., vessel owners) that are beyond the benefits and services normally received by the general public, the IOAA and Circular A-25 direct MARAD to assess user fees for providing this service. The current application fee for a waiver is $300. MARAD proposes to increase this fee to $500 as set forth below.

Following the principles embodied in Circular A-25, MARAD examined the costs associated with processing and issuing waivers under part 388 to determine if the current $300 fee recovers the full costs of administering the program. The main cost components of the program include direct and indirect personnel costs and Federal Register publication costs. Our review of the program determined that average personnel costs for processing each uncontested application are $204.50 and $1,118.50 for each contested application (on average, 7% of all waiver applications are contested, based on the 236 applications sampled for our analysis). Thus, the total average personnel costs are $268.48 for processing each application. The second main cost component of the program is the cost of publishing notices of waiver applications in the Federal Register. The current Federal Register publication cost is $155 per column and the average length of a public notice published for this program is 1.5 columns. Thus, the total average publication cost is $232.50. The sum total of personnel costs and Federal Register publication costs is $500.98. Therefore, MARAD is proposing to raise the application fee from $300 to $500 in order to recover these costs.

Regulatory Analyses and Notices

Executive Order 12866 and DOT Regulatory Policies and Procedures

This proposed rule is not considered a significant regulatory action under section 3(f) of Executive Order 12866 and, therefore, was not reviewed by the Office of Management and Budget. This proposed rule is not likely to result in an annual effect on the economy of $100 million or more. This proposed rule is also not significant under the Regulatory Policies and Procedures of the Department of Transportation (44 FR 11034, February 26, 1979). The costs and economic impact associated with this rulemaking are considered to be so minimal that no further analysis is necessary.

Regulatory Flexibility Act

In accordance with the Regulatory Flexibility Act (5 U.S.C. 601 et seq.), the Maritime Administrator certifies that this proposed rule will not have a significant economic impact on a substantial number of small entities. While this proposed rule, if promulgated, will affect businesses that qualify as small entities under Small Business Administration guidelines, MARAD does not believe that the modest increase in this one-time, non-recurring fee (unless an applicant must reapply due to a revocation) will result in a significant economic impact on small entities. Further, MARAD is required under Federal directives to assess recipients of special governmental services reasonable charges to recover the costs of providing such services.

Federalism

We have analyzed this proposed rule in accordance with the principles and criteria contained in Executive Order 13132 (Federalism) and have determined that it does not have sufficient federalism implications to warrant the preparation of a federalism summary impact statement. These regulations have no substantial effects on the States, the current Federal-State relationship, or the current distribution of power and responsibilities among local officials. Therefore, consultation with State and local officials is not necessary.

Executive Order 13175

MARAD does not believe that this proposed rule will significantly or uniquely affect the communities of Indian tribal governments when analyzed under the principles and criteria contained in Executive Order 13175 (Consultation and Coordination with Indian Tribal Governments). Therefore, the funding and consultation requirements of this Executive Order do not apply.

Environmental Impact Statement

We have analyzed this proposed rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), neither the preparation of an Environmental Assessment, an Environmental Impact Statement, nor a Finding of No Significant Impact for this proposed rule is required.

Unfunded Mandates Reform Act of 1995

This proposed rule does not impose an unfunded mandate under the Unfunded Mandates Reform Act of 1995. It does not result in costs of $100 million or more, in the aggregate, to any of the following: State, local, or Native American tribal governments, or the private sector. This proposed rule is the least burdensome alternative that achieves this objective of U.S. policy.

Paperwork Reduction Act

This proposed rule contains information collection requirements covered by the Office of Management and Budget approval number 2133-0529. The changes have no impact on the reporting burden.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 46 CFR Part 388

Administrative practice and procedure, Maritime carriers, Passenger vessels, Reporting and recordkeeping requirements.

Accordingly, the Maritime Administration amends 46 CFR chapter II, subchapter J, by revising part 388 as follows:

PART 388—ADMINISTRATIVE WAIVERS OF THE COASTWISE TRADE LAWS

1. The authority citation for part 388 continues to read as follows:

Authority: 46 App. U.S.C. 1114(b); Public Law 105-383, 112 Stat. 3445 (46 U.S.C. 12106 note); 49 CFR 1.66.

2. Amend § 388.3 by revising paragraph (a)(1) and the introductory text of paragraph (a)(2) to read as follows:

§ 388.3 Application and fee.

(a) * * *

(1) The application form contained on MARAD's Web site at http://www.marad.dot.gov may be submitted electronically with credit card or Automated Clearinghouse (ACH) payment of the $500 application fee.

(2) Alternatively, applicants may send written applications to Small Vessel Waiver Applications, Office of Ports and Domestic Shipping, MAR-830, Room 7201, 400 7th St., SW., Washington, DC 20590. Written applications need not be in any particular format, but must be signed, be accompanied by a check for $500 made out to the order of “Maritime Administration”, and contain the following information:

* * * * *

Dated: May 6, 2005.
By Order of the Maritime Administrator.
Joel C. Richard,
Secretary, Maritime Administration.

[FR Doc. 05-9433 Filed 5-11-05; 8:45 am]

BILLING CODE 4910-81-P